DEPARTMENT OF DEFENSE

Office of the Secretary

[Docket ID DoD-2015-OS-0003]

Privacy Act of 1974; System of Records

AGENCY: Defense Contract Audit Agency, DoD.

ACTION: Notice to amend a System of Records.

SUMMARY: The Defense Contract Audit Agency is amending system of records notice, RDCAA 590.8, entitled “DCAA Management Information System (DMIS)” in its existing inventory of record systems subject to the Privacy Act of 1974, as amended. This system is used to provide managers, supervisors, and team members with timely, on-line information regarding audit requirements, programs, and performance.

DATES: Comments will be accepted on or before February 20, 2015. This proposed action will be effective on the date following the end of the comment period unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Keith Mastromichalis, DCAA FOIA/Privacy Act Management Analyst, 8725 John J. Kingman Road, Suite 2135, Fort Belvoir, VA 22060-6219, Telephone number: (703) 767-1022

SUPPLEMENTARY INFORMATION: The Defense Contract Audit Agency systems of records notices subject to the Privacy Act of 1974, as amended, have been published in the Federal Register and are available from the address in FOR FURTHER INFORMATION CONTACT or from the Defense Privacy and Civil Liberties Division Web site at http://dpcld.defense.gov/. The proposed changes to the record systems being amended are set forth below. The proposed amendments are not within the purview of subsection (r) of the Privacy Act of 1974 (5 U.S.C. 552a), as amended, which requires the submission of a new or altered system report.

Dated: January 15, 2015.
Aaron Siegel,
Alternate OSD Federal Register Liaison Officer, Department of Defense.

RDCAA 590.8

System name:

DCAA Management Information System (DMIS) (March 5, 2013, 78 FR 14284).

Changes:

* * * * *

System location:

Delete entry and replace with “Defense Contract Audit Agency, 8725 John J. Kingman Road, Suite 2135, Fort Belvoir, VA 22060-6219.”

* * * * *

System manager(s) and address:

Delete entry and replace with “Chief, Information Technology Division, Defense Contract Audit Agency, 8725 John J. Kingman Road, Suite 2135, Fort Belvoir, VA 22060-6219.”

Notification procedures:

Delete entry and replace with “Individuals seeking to determine whether information about themselves is contained in this system should address written inquiries to the Chief, Information Technology Division, System Design and Development Branch, Defense Contract Audit Agency, 8725 John J. Kingman Road, Suite 2135, Fort Belvoir, VA 22060-6219.

Individuals must furnish name, Social Security Number, approximate date of record, and geographic area in which consideration was requested for record to be located and identified.

Official mailing addresses are published as an appendix to the DCAA's compilation of systems notices.”

Record access procedures:

Delete entry and replace with “Individuals seeking access to information about themselves contained in this system should address written inquiries to the Chief, Information Technology Division, Defense Contract Audit Agency, 8725 John J. Kingman Road, Suite 2135, Fort Belvoir, VA 22060-6219.

Individuals must furnish name, Social Security Number, approximate date of record, and geographic area in which consideration was requested for record to be located and identified.”

* * * * *

[FR Doc. 2015-00892 Filed 1-20-15; 8:45 am]

BILLING CODE 5001-06-P